DEPARTMENT OF THE INTERIOR

Bureau of Land Management

[CO-600-03-1010-BN-241A]

Notice of Public Meetings, Northwest Colorado Resource Advisory Council Meetings

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM), Northwest Colorado Resource Advisory Council (RAC) will meet as indicated below.

The Northwest Colorado RAC meetings will be held May 8, 2003 at the Colorado North Western Community College—Johnson Bldg. Banquet Room, located at 500 Kennedy Drive in Rangely, Colorado; August 14, 2003 at the Parachute Community Center located at 222 Grand Valley Way in Parachute, Colorado; and November 13, 2003 at the Holiday Inn located at 755 Horizon Drive in Grand Junction, Colorado.

The Northwest Colorado RAC meetings will begin at 9 a.m. and adjourn at approximately 4 p.m. Public comment periods at the meetings will be in the morning at 9:30 a.m. and in the afternoon, to start no later than 3 p.m.

DATES: Northwest Colorado RAC meetings are May 8, 2003, August 14, 2003, and November 13, 2003.

FOR FURTHER INFORMATION CONTACT: Larry J. Porter, RAC Coordinator, Bureau of Land Management, 2815 H Road, Grand Junction, Colorado 81506; Telephone (970) 244-3012.

SUPPLEMENTARY INFORMATION: The Northwest Colorado RAC advises the Secretary of the Interior, through the Bureau of Land Management, on a variety of planning and management issues associated with public land management in Colorado.

Purpose of the Northwest Colorado RAC May 8, 2003 meeting is to consider several resource management related topics including; RAC goals and priorities, coal bed methane development update, North Fruita Desert Plan update, fire program update, Committee reports, RAC Chairman/BLM Director Washington Office meeting report, Roan Plateau Plan update, and Northwest Colorado Stewardship update. Topics of discussion for the following Northwest Colorado RAC meetings scheduled for August 14, 2003 and November 13, 2003 will include fire management, land use planning, weeds management, travel management, wilderness, wild horse program update, land exchange proposals, cultural resources, and other issues as appropriate.

These RAC meetings are open to the public. The public may present written comments to the RAC. Each RAC meeting will also have time, as identified above, allocated for hearing public comments. Depending on the number of persons wishing to comment and time available, the time for individual oral comments may be limited. Individuals planning to attend the meetings who need special assistance should contact the RAC Coordinator listed above.

Dated: March 13, 2003.
Larry Porter,
Acting Western Slope Center Manager.

[FR Doc. 03-6682 Filed 3-19-03; 8:45 am]

BILLING CODE 4310-JB-P